DEPARTMENT OF THE INTERIOR

National Park Service

[N6835; NPS-WASO-NAGPRA-NPS0041696; PPWOCRADN0-PCU00RP14.R50000]

Notice of Inventory Completion: Hood Museum of Art, Dartmouth College, Hanover, NH

AGENCY: National Park Service, Interior.

ACTION: Notice.

SUMMARY: In accordance with the Native American Graves Protection and Repatriation Act (NAGPRA), the Hood Museum of Art has completed an inventory of associated funerary objects and has determined that there is a cultural affiliation between the associated funerary objects and Indian Tribes or Native Hawaiian organizations in this notice.

DATES: Repatriation of the associated funerary objects in this notice may occur on or after February 6, 2026.

ADDRESSES: Send written requests for repatriation of the associated funerary objects in this notice to Jami C. Powell, Hood Museum of Art, 6 East Wheelock Street, Hanover, NH 03755, email hood.NAGPRA@dartmouth.edu.

SUPPLEMENTARY INFORMATION: This notice is published as part of the National Park Service's administrative responsibilities under NAGPRA. The determinations in this notice are the sole responsibility of the Hood Museum of Art, and additional information on the determinations in this notice, including the results of consultation, can be found in its inventory or related records. The National Park Service is not responsible for the determinations in this notice.

Abstract of Information Available

An associated funerary object has been identified. The one associated funerary object is a lot of wampum beads. The beads entered the collection with an ancestor prior to 1913 from an unknown source. The associated ancestor was published in a notice of inventory completion in the Federal Register on May 2, 1996 (61 FR 19635). The beads are kept in a small box labeled as being from a “Seminole Burial Ground” in “Oak Lodge,” FL, which is consistent with the notations regarding the associated ancestor. After entering the Dartmouth College collection, the beads were separated from their ancestor. During the re-inventory process, the beads were re-located in the museum collection by Hood Museum of Art staff and identified as being associated with the ancestor from “Oak Lodge.”

Associated funerary objects have been identified. The 43 associated funerary objects are pottery sherds, shells, and limestone. The funerary objects entered the Dartmouth College collection with an ancestor from an unknown source in 1927. The associated ancestor was published in a notice of inventory completion in the Federal Register on May 14, 2025 (90 FR 20500). The objects are accompanied by tags noting their removal from Hernandez Mound in Ormond, FL, a known burial site. After entering the Dartmouth College collection, the funerary objects were separated from their associated ancestor and recently identified as being associated with the Ormond, FL ancestor.

Cultural Affiliation

Based on the information available and the results of consultation, cultural affiliation is reasonably identified by the geographical location or acquisition history of the associated funerary objects described in this notice.

Determinations

The Hood Museum of Art has determined that:

• The 44 objects described in this notice are reasonably believed to have been placed intentionally with or near individual human remains at the time of death or later as part of the death rite or ceremony.

• There is a connection between the associated funerary objects described in this notice and the Miccosukee Tribe of Indians; Poarch Band of Creek Indians; Seminole Tribe of Florida; The Muscogee (Creek) Nation; and The Seminole Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after February 6, 2026. If competing requests for repatriation are received, the Hood Museum of Art must determine the most appropriate requestor prior to repatriation. Requests for joint repatriation of the associated funerary objects are considered a single request and not competing requests. The Hood Museum of Art is responsible for sending a copy of this notice to the Indian Tribes and Native Hawaiian organizations identified in this notice and any other consulting parties.

Authority: Native American Graves Protection and Repatriation Act, 25 U.S.C. 3003, and the implementing regulations, 43 CFR 10.10.

Dated: December 18, 2025.
Melanie O'Brien,
Manager, National NAGPRA Program.

[FR Doc. 2026-00066 Filed 1-6-26; 8:45 am]

BILLING CODE 4312-52-P